DEPARTMENT OF THE INTERIOR

Bureau of Land Management

[OR 050-08-1430-FR; HAG-8-0132]

Notice of Intent To Prepare a Resource Management Plan Amendment and Associated Environmental Assessment for the Bureau of Land Management (BLM) Prineville District Deschutes Resource Area, and a Proposed Classification of Lands as Suitable for Disposal

AGENCY: Bureau of Land Management, Department of the Interior.

ACTION: Notice of Intent and Proposed Classification of Lands as Suitable for Disposal under Section 7 of the Taylor Grazing Act (48 Stat. 1272), as amended (43 U.S.C. 315f) and 43 CFR Part 2400.

SUMMARY: This document provides notice that the BLM intends to prepare an amendment to the Upper Deschutes Resource Management Plan for the Prineville District, Deschutes Resource Area and an associated Environmental Assessment (EA). The proposed amendment would reclassify some lands designated for BLM retention and management (Z-1) in the existing Resource Management Plan (RMP) as suitable for disposal (Z-3). The BLM is also providing notice of the proposed classification of these same lands under Section 7 of the Taylor Grazing Act as suitable for disposal. These classifications are required to allow consideration of transfer of these lands to the State of Oregon (“the State”) under the State Indemnity Selection process. When Oregon was admitted into the Union in 1859, the Federal government granted sections 16 and 36 within every township to the State for support of public schools. However, if the Federal government had already disposed of these specific sections or reserved them for some other purpose, the State is allowed to select other public lands “in-lieu” of the unavailable sections. To date the State has received approximately 3,000 of the 5,202 acres owed. The State of Oregon Department of State Lands has selected parcels with potential to produce income for the Common School Fund through subsequent development of the lands.

The planning area is located in Deschutes County, Oregon and is described as follows:

T. 17 S., R. 12 E., Deschutes County:

Sec. 1, lots 1-4, S½N½, S½;

Sec. 12, lot 1, NE¼NW¼, NE¼NE¼, W½NE¼.

T. 17 S., R. 13 E., Deschutes County:

Sec. 5, lot 4, W½SW¼NW¼;

Sec. 6, lots 1-7, lots 9-11, S½NE¼, SE¼NW¼, E½SW¼, NW¼SE¼;

Sec. 7, lots 1, 6, 7, 8, & 10.

These parcels are also commonly referred to as the Deschutes Market Road parcels and total 1577.42 acres of public land. Of these acres, approximately 85 acres are associated with the historic Huntington Road, a mid-19th century military route between The Dalles and Fort Klamath, and included within the larger (982 acres) Wagon Roads Area of Critical Environmental Concern. The public scoping process also serves as the protest period for the proposed classification as required by 32 CFR 2450.4.

DATES: This notice initiates the 30-day public scoping period. Comments on issues and the planning criteria can be submitted in writing to the address listed below and will be accepted throughout the creation of the EA to amend the RMP. All persons who wish to protest the proposed classification must submit comments, objections during this 30-day period and identify prior valid rights or other statutory constraints that would bar reclassification. All public meetings will be announced through the local news media, newsletters, and the BLM Web site http://www.blm.gov/or/districts/prineville/index.php at least 15 days prior to the event. A public meeting will be held during the plan amendment scoping period on Wednesday, July 23, 2008 at 7 p.m. at Pilot Butte Elementary School Cafeteria, 1501 NE Neff Road, Bend, Oregon. Early participation is encouraged and will help determine the issues to be addressed by the EA. In addition to the ongoing public participation process, an additional formal opportunity for public participation will be provided through a comment period on a Draft EA.

ADDRESSES: Written comments and classification protests should be sent to the BLM, Prineville District, 3050 N.E. 3rd Street, Prineville, OR 97754; Fax: 541-416-6798; E-mail: DSLSelection@blm.gov.

Documents pertinent to this proposal may be examined at the Prineville District Office during regular business hours, 7:45 a.m. through 4:30 p.m., Monday through Friday, except holidays.

FOR FURTHER INFORMATION CONTACT: For further information and/or to have your name added to our mailing list, contact Ms. Teal Purrington, BLM Planning Lead, Telephone 541-416-6700; e-mail DSLSelection@blm.gov.

SUPPLEMENTARY INFORMATION: On February 6, 2008, the BLM received from the State of Oregon, Department of State Lands, an application (Serial No. OR 61026) to select the above parcels as indemnity for lands lost to the State as provided for by the Oregon Admission Act of February 14, 1859 (11 Stat. 383, Title 43, U.S.C., Sections 851, 852). Upon the filing of the State's application, the land selected was segregated to the extent that it is not open to appropriation under the public land laws including the mining laws. This segregation shall terminate either upon the issuance of the document of conveyance for the land to the State, upon rejection of the application, or two years from the date of filing of the application, whichever comes first. Processing the State's application requires the BLM to consider an amendment to the Upper Deschutes RMP and classification of the lands under Section 7 of the Taylor Grazing Act. It is the BLM's intent to conduct all classification, EA and plan amendment activities and actions concurrently. The BLM will work collaboratively with interested parties to identify the management decisions that are best suited to local, regional, and national needs and concerns. Preliminary issues and management concerns have been identified in the existing RMP and by BLM personnel, the State, other agencies, and in meetings with individuals, adjoining landowners and user groups. The preliminary issues that will be addressed in the EA effort include: land tenure and classification; Wagon Roads Area of Critical Environmental Concern; visual resources; recreational values; historic and cultural resources; old growth juniper woodlands; and wildlife populations and habitats.

You may submit comments on issues in writing to the BLM at the public scoping meeting, or you may submit them to the BLM using one of the methods listed in the ADDRESSES section above. To be most helpful, you should submit comments within 30 days. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

After gathering public comments on what issues the plan amendment should address, the suggested issues will be placed in one of three categories:

1. Issues to be resolved in the plan amendment;

2. Issues resolved through policy or administrative action; or

3. Issues beyond the scope of this RMPA/EA.

Rationale will be provided in the plan amendment for each issue placed in category two or three. An interdisciplinary approach will be used to develop the RMPA/EA in order to consider the variety of resource issues and concerns identified. Disciplines involved in the planning process will include specialists with expertise in rangeland management, minerals and geology, forestry, outdoor recreation, visual resources, archaeology, wildlife, lands and realty, and economics. A similar notice has been published in the local newspaper.

Deborah Henderson-Norton,
Manager, Prineville District.

[FR Doc. E8-15112 Filed 7-2-08; 8:45 am]

BILLING CODE 4310-33-P